DEPARTMENT OF JUSTICE

Antitrust Division

Notice Pursuant to the National Cooperative Research and Production Act of 1993—Unified Extensible Firmware Interface Forum

Notice is hereby given that, on February 5, 2014, pursuant to Section 6(a) of the National Cooperative Research and Production Act of 1993, 15 U.S.C. 4301 et seq. (“the Act”), Unified Extensible Firmware Interface Forum (“UEFI Forum”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Unified Extensible Firmware Interface Forum, Beaverton, OR. The nature and scope of UEFI Forum's standards development activities are: UEFI Forum members, through the Forum's Working Groups, develop, manage, and promote UEFI Specifications and the Advanced Configuration and Power Interface (“ACPI”) Specification—which are voluntary consensus standards under the Act—and Test Suites to test compliance with these Specifications. The purpose of these Specifications is to simplify and secure platform initialization and firmware boot up operations. UEFI Forum's members are industry-leading technology companies, whose consensus efforts promote business and technological efficiency, improve performance and security, facilitate interoperability between devices, platforms and systems, and enable next-generation technologies to emerge.

Patricia A. Brink,
Director of Civil Enforcement, Antitrust Division.

[FR Doc. 2014-05451 Filed 3-12-14; 8:45 am]

BILLING CODE 4410-CW-P